FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than February 13, 2020.

A. Federal Reserve Bank of Chicago (Colette A. Fried, Assistant Vice President) 230 South LaSalle Street, Chicago, Illinois 60690-1414:

1. Kim Marie Gundy, La Vista, Nebraska; Jill Ann Jacobsen, Forsyth, Illinois; Dean Xavier Langenfeld, Earling, Iowa; McKenzie Rae Bieker, Harlan, Iowa; Mark Albert Langenfeld II, Tipton, Iowa; Max Bernard Langenfeld, Earling, Iowa; and Magdalen Ann Langenfeld, Harlan, Iowa; as a group acting in concert (Langenfeld Family Control Group) to join the Todd M. Langenfeld Revocable Living Trust Dated July 24, 1996, Todd M. Langenfeld, trustee, Earling, Iowa, and to retain voting shares of J. Carl. H. Bancorporation Inc., and thereby indirectly retain voting shares of Farmers Trust & Savings Bank, both of Earling, Iowa.

B. Federal Reserve Bank of Minneapolis (Chris P. Wangen, Assistant Vice President), 90 Hennepin Avenue, Minneapolis, Minnesota 55480-0291:

1. John E. Babcock, Anoka, Minnesota; to retain voting shares of Metro North Bancshares, Inc. and thereby indirectly retain voting shares of The Bank of Elk River, both of Elk River, Minnesota. Additionally, the Anne Babcock Hollowed Trust, Anne Babcock Hollowed, trustee, both of Mercer Island, Washington, and the Beyer/Babcock Family Trust U/A DTD 4/6/00, Catherine Babcock, trustee, both of Altadena, California, to join as members of the Babcock Family Control Group to retain voting shares of Metro North Bancshares, Inc. and thereby indirectly retain voting shares of The Bank of Elk River.

Board of Governors of the Federal Reserve System, January 24, 2020.
Ann E. Misback,
Secretary of the Board.

[FR Doc. 2020-01566 Filed 1-28-20; 8:45 am]

BILLING CODE P